DEPARTMENT OF JUSTICE

Office of Justice Programs

[OJP (OJP) Docket No. 1475]

Meeting of the Public Safety Officer Medal of Valor Review Board

AGENCY: Office of Justice Programs (OJP), Justice.

ACTION: Notice of meeting.

SUMMARY: This is an announcement of a meeting of the Public Safety Officer Medal of Valor Review Board to review applications for the 2006-2007 Medal of Valor Awards and to discuss upcoming activities. Due to the late scheduling of this meeting, publication 15 days prior to the meeting was not possible. This notice will be published less than 15 days prior to the meeting pursuant to 41 CFR 102-3.105(b). The meeting time and location are located below.

DATES: December 13, 2007, 10 a.m. to 3 p.m.

ADDRESSES: The meeting will take place at the Office of Justice Programs, 810 7th Street, NW., Washington, DC 20531.

FOR FURTHER INFORMATION CONTACT: Greg Joy, Policy Advisor, Bureau of Justice Assistance, Office of Justice Programs, 810 7th Street, NW., Washington, DC 20531, by telephone at (202) 514-1369, toll free (866) 859-2687, or by e-mail at gregorgy.joy@usdoj.gov.

SUPPLEMENTARY INFORMATION: The Public Safety Officer Medal of Valor Review Board carries out those advisory functions specified in 42 U.S.C. 15202. Pursuant to 42 U.S.C. 15201, the President of the United States is authorized to award the Public Safety Officer Medal of Valor, the highest national award for valor by a public safety officer. The purpose of this meeting is to review applications for the 2006-2007 Public Safety Officer Medal of Valor Awards and to discuss upcoming activities related thereto.

This meeting will be open to the public. For security purposes, members of the public who wish to attend must register at least five (5) days in advance of the meeting by contacting Mr. Joy. All attendees will be required to sign in at the front desk. Note: Photo identification will be required for admission. Additional identification documents may be required.

Access to the meeting will not be allowed without prior registration. Anyone requiring special accommodations should contact Mr. Joy at least five (5) days in advance of the meeting.

Dated: November 26, 2007.
Cybele K. Daley,
Acting Assistant Attorney General, Office of Justice Programs.

[FR Doc. E7-23240 Filed 11-29-07; 8:45 am]

BILLING CODE 4410-18-P